DEPARTMENT OF COMMERCE

International Trade Administration

[C-570-968]

Aluminum Extrusions From the People's Republic of China: Intent To Rescind 2012 Countervailing Duty Administrative Review, in Part

AGENCY: Enforcement and Compliance, formerly Import Administration, International Trade Administration, Department of Commerce.

DATES: Effective Date: November 8, 2013.

FOR FURTHER INFORMATION CONTACT: Kristen Johnson or Brooke Kennedy, AD/CVD Operations, Office III, Enforcement and Compliance, International Trade Administration, U.S. Department of Commerce, 14th Street and Constitution Avenue NW., Washington, DC 20230; telephone: (202) 482-4793 or (202) 482-3818, respectively.

SUPPLEMENTARY INFORMATION:

Background

On May 1, 2013, the Department of Commerce (the Department) published a notice of opportunity to request an administrative review of the countervailing duty (CVD) order on aluminum extrusions from the People's Republic of China (PRC) for the period January 1, 2012, through December 31, 2012.¹ On May 31, 2013, we received from Electrolux North America, Inc., Electrolux Home Products, Inc., and Electrolux Major Appliances (collectively, Electrolux), a domestic interested party, a request that the Department conduct an administrative review of Hong Kong Gree Electric Appliances Sales Limited (Hong Kong Gree).² On June 28, 2013, the Department published a notice of initiation of administrative review with respect to 153 companies.³ On August 27, 2013, Hong Kong Gree notified the Department that it had no shipments of subject merchandise to the United States during the period of review (POR).⁴

¹ See Antidumping or Countervailing Duty Order, Finding, or Suspended Investigation; Opportunity To Request Administrative Review, 78 FR 25420, 25424 (May 1, 2013).

² See Letter from Crowell & Moring on behalf of Electrolux regarding “Request for Administrative Review” (May 31, 2013). This public document and all other public documents and public versions of business proprietary documents for this administrative review are on file electronically via IA ACCESS.

³ See Initiation of Antidumping and Countervailing Duty Administrative Reviews and Request for Revocation in Part, 78 FR 38924 (June 28, 2013) (Initiation Notice).

⁴ See Letter from Hong Kong Gree regarding “No Shipment Certification” (August 27, 2013).

Intent To Rescind the 2012 Administrative Review, in Part

Hong Kong Gree submitted a letter to the Department certifying that it had no shipments of subject merchandise to the United States during the POR. Electrolux did not comment on Hong Kong Gree's claim of no shipments.

Previously, on August 2, 2013, we released the results of a U.S. Customs and Border Protection (CBP) data query, which showed that Hong Kong Gree had no suspended entries of subject merchandise during the POR.⁵ After receipt of Hong Kong Gree's no shipment certification, we sent a “no shipments inquiry” message to CBP, which posted the message on September 20, 2013.⁶ CPB did not respond to the Department within the customary ten days regarding the inquiry into whether there were any suspended entries from Hong Kong Gree during the POR.

⁵ See Department Memorandum regarding “Analysis of CBP Data and Identification of Companies to Receive Q&V Questionnaires” (August 2, 2013).

⁶ See Message number 3263301available at http://addcvd.cbp.gov and also IA ACCESS.

Based on our analysis of all the information on the record, we preliminarily determine that Hong Kong Gree had no shipments or entries of subject merchandise to the United States during the POR. Therefore, in accordance with 19 CFR 351.213(d)(3), and consistent with our practice,⁷ we preliminarily determine to rescind the review for Hong Kong Gree. We will continue this administrative review with respect to those companies for which a review was requested and not subsequently withdrawn.⁸

⁷ See, e.g., Polyethylene Terephthalate Film, Sheet and Strip From India: Rescission of Countervailing Duty Administrative Review, 77 FR 19634 (April 2, 2012); see also Welded Carbon Steel Standard Pipe and Tube From Turkey: Notice of Rescission of Countervailing Duty Administrative Review, In Part, 74 FR 47921 (September 18, 2009).

⁸ The Department received several submissions for the withdrawal of administrative review requests and will publish separately a “Notice of Partial Rescission of Countervailing Duty Administrative Review” with respect to those companies for which review requests have been withdrawn.

Public Comment

The Department is setting aside a period for interested parties to raise issues regarding the Department's intent to rescind the administrative review for Hong Kong Gree. Interested parties should submit such comments within 20 calendar days of the publication of this notice. All comments are to be filed electronically using Enforcement and Compliance's Antidumping and Countervailing Duty Centralized Electronic Service System (IA ACCESS) available to registered users at http://iaaccess.trade.gov and in the Central Records Unit, Room 7046 of the main Department of Commerce building, and must also be served on interested parties.⁹ An electronically filed document must be received successfully in its entirety by IA ACCESS by 5:00 p.m. Eastern Standard Time on the day it is due.¹⁰ The period for public comment is intended to provide the Department with ample opportunity to consider all issues prior to the issuance any the notice of rescission of the administrative review for Hong Kong Gree.

⁹ See 19 CFR 351.303(f).

¹⁰ See 19 CFR 351.310(c).

We are issuing this notice in accordance with section 777(i)(1) of the Tariff Act of 1930, as amended, and 19 CFR 351.213(d)(4).

Dated: November 4, 2013.
Christian Marsh,
Deputy Assistant Secretary for Antidumping and Countervailing Duty Operations.

[FR Doc. 2013-26865 Filed 11-7-13; 8:45 am]

BILLING CODE 3510-DS-P